DEPARTMENT OF LABOR

Employment and Training Administration

[TA-W-38,809]

Blue Mountain Products Pendleton, OR; Notice of Affirmative Determination Regarding Application for Reconsideration

By letter of July 17, 2001, the petitioner requested administrative reconsideration of the Department of Labor's Notice of Negative Determination Regarding Eligibility to Apply for Worker Adjustment Assistance, petition TA-W-38,809. The denial notice was signed on June 18, 2001 and published in the Federal Register on July 5, 2001 (66 FR 35462).

The Department has reviewed the request for reconsideration and has determined that further clarification of a survey response from a major customer of the subject firm would be appropriate.

Conclusion

After careful review of the application, I conclude that the claim is of sufficient weight to justify reconsideration of the Department of Labor's prior decision. The application is, therefore, granted.

Signed at Washington, DC this 11th day of December 2001.
Edward A. Tomchick,
Director, Division of Trade, Adjustment Assistant.

[FR Doc. 01-31624 Filed 12-21-01; 8:45 am]

BILLING CODE 4510-30-M